DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 76 FR 45584-45585 dated July 29, 2011).

This notice reflects organizational changes to the Health Resources and Services Administration. Specifically, this notice updates the Division of Vaccine Injury Compensation (RR4) functional statement to better align functional responsibility, improve the management and delivery of information technology services, improve management and administrative efficiencies, and optimize use of available staff resources within the Healthcare Systems Bureau (RR).

Chapter RR—Healthcare Systems Bureau

Section RR-10, Organization

Delete in its entirety and replace with the following:

The Healthcare Systems Bureau (RR) is headed by the Associate Administrator, who reports directly to the Administrator, Health Resources and Services Administration. The Healthcare Systems Bureau includes the following components:

(1) Office of the Associate Administrator (RR);

(2) Division of Transplantation (RR1);

(3) Division of Health Facilities (RR9);

(4) Division of Vaccine Injury Compensation (RR4); and

(5) Office of Pharmacy Affairs (RR7).

Section RR-20, Functions

(1) Delete the functional statement for the Division of Vaccine Injury Compensation (RR4) and replace in its entirety.

Division of Vaccine Injury Compensation (RR4)

The Division of Vaccine Injury Compensation (DVIC), on behalf of the Secretary of Health and Human Services (HHS), administers all statutory authorities related to the operation of the National Vaccine Injury Compensation Program (VICP) by: (1) Evaluating petitions for compensation filed under the VICP through medical review and assessment of compensability for all complete claims; (2) processing awards for compensations made under the VICP; (3) promulgating regulations to revise the Vaccine Injury Table; (4) providing professional and administrative support to the Advisory Commission on Childhood Vaccines (ACCV); (5) developing and maintaining all automated information systems necessary for program implementation; (6) providing and disseminating program information; (7) maintaining a working relationship with the Department of Justice (DOJ) and the U.S. Court of Federal Claims (the Court) in the administration and operation of the VICP; (8) providing management, direction, budgetary oversight, coordination, and logistical support for the Medical Expert Panel (MEP) contracts as well as Clinical Reviewer Contracts; (9) maintaining responsibility for activities related to the ACCV, the development of policy, regulations, budget formulation, and legislation, including the development and renewal of the ACCV charter and action memoranda to the Secretary, and the analysis of the findings and proposals of the ACCV; (10) developing, reviewing, and analyzing pending and new legislation relating to program changes, new initiatives, the ACCV, and changes to the Vaccine Injury Table, in coordination with the Office of the General Counsel (OGC); (11) providing programmatic outreach efforts to maximize public exposure to private and public constituencies; (12) providing submission of special reports to the Secretary of HHS, the Office of Management and Budget, the Congress, and other governmental bodies; and (13) providing the coordination of ACCV travel, personnel, meeting sites, and its agenda.

Section RR-30, Delegations of Authority

All delegations of authority and re-delegations of authority made to HRSA officials that were in effect immediately prior to this reorganization, and that are consistent with this reorganization, shall continue in effect pending further re-delegation.

This reorganization is effective upon date of signature.

Dated: July 29, 2011.
Mary K. Wakefield,
Administrator.

[FR Doc. 2011-19804 Filed 8-3-11; 8:45 am]

BILLING CODE 4165-15-P